DEPARTMENT OF HEALTH AND HUMAN SERVICES

Centers for Disease Control and Prevention

National Center for Injury Prevention and Control/ Initial Review Group, (NCIPC/IRG)

In accordance with section 10(a)(2) of the Federal Advisory Committee Act (Pub. L. 92-463), the Centers for Disease Control and Prevention (CDC) announces the following meeting of the aforementioned review group:

Times and Dates:

7 p.m.-8 p.m., November 18, 2008 (Open).

7:45 a.m.-5 p.m., November 19, 2008 (Closed).

7:45 a.m.-5 p.m., November 20, 2008 (Closed).

7:45 a.m.-5 p.m., November 21, 2008 (Closed).

Place: The W Hotel, 3377 Peachtree Road, NE., Atlanta, Georgia 30326, Telephone: (678) 500-3181.

Status: Portions of the meetings will be closed to the public in accordance with provisions set forth in Section 552b(c)(4) and (6), Title 5, U.S.C., and the Determination of the Director, Management Analysis and Services Office, CDC, pursuant to Section 10(d) of Public Law 92-463.

Purpose: This group is charged with providing advice and guidance to the Secretary, Department of Health and Human Services, and the Director, CDC, concerning the scientific and technical merit of grant and cooperative agreement applications received from academic institutions and other public and private profit and nonprofit organizations, including state and local government agencies, to conduct research on Injury Control and Prevention.

Matters to be Discussed: The meeting will include the review, discussion, and evaluation of Injury Control Research Center applications submitted in response to Fiscal Year 2008 Requests for Applications related to the following individual research announcement: CE09-001. This Announcement solicits applications from new or existing injury centers to conduct injury and violence prevention research, build the scientific base for the prevention and control of injuries and violence, integrate professionals from a wide spectrum of disciplines to perform injury and violence prevention research, and encourage research that involves intervention development and testing and intervention adoption and maintenance methods. Agenda items are subject to change as priorities dictate.

Contact Person for More Information: J. Felix Rogers, Ph.D., M.P.H., NCIPC, CDC, 4770 Buford Highway, NE., Mailstop F62, Atlanta, Georgia 30341, Telephone: (770) 488-4334-3724.

The Director, Management Analysis and Services Office has been delegated the authority to sign Federal Register notices pertaining to announcements of meetings and other committee management activities for both CDC and the Agency for Toxic Substances and Disease Registry.

Dated: October 7, 2008.
Elaine L. Baker,
Director, Management Analysis and Services Office, Centers for Disease Control and Prevention.

[FR Doc. E8-24564 Filed 10-15-08; 8:45 am]

BILLING CODE 4163-18-P